FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET Date | Trans No. | ET Req status | Party name
01-MAR-10 | 20100424 | G | New Mountain Partners III, L.P.
|  | G | Francisco Partners, L.P.
|  | G | RedPrairie Holdings, Inc.
02-MAR-10 | 20090638 | G | Carlyle Partners IV, L.P.
|  | G | Welsh, Carson, Anderson & Stowe VIII, LP.
|  | G | Viant Holdings, Inc.
| 20090639 | G | Welsh, Carson, Anderson & Stowe VIII, L.P.
|  | G | Carlyle Partners IV, L.P.
|  | G | Holdco.
| 20100416 | G | CME Group Inc.
|  | G | CIMD Holdings, LLC.
|  | G | CIMD Holdings, LLC.
03-MAR-10 | 20090223 | Y | Essilor international (Compagnie Generale d'Optique) S.A.
|  | Y | Armorlite S.p.A.
|  | Y | Signet Armorlite, Inc.
05-MAR-10 | 20100432 | G | Fidelity National Information Services, Inc.
|  | G | Marshall & IIsley Corporation.
|  | G | M&I Marshall & lIsley Bank.
| 20100436 | G | SSI Pooling, LP.
|  | G | SkillSoft PLC.
|  | G | SkillSoft PLC.
08-MAR-10 | 20100320 | G | Morgan Stanley Infrastructure Partners A Sub LP.
|  | G | NSTAR
|  | G | Medical Area Total Energy Plant, Inc.
09-MAR-10 | 20100430 | G | The Bank of New York Mellon Corporation.
|  | G | The PNC Financial Services Group, Inc.
|  | G | PNC Global Investment Servicing Inc.
| 20100440 | G | Baxter International Inc.
|  | G | Apalech Limited.
|  | G | ApaTech Limited.
10-MAR-1 | 20100441 | G | Texas Health Resources.
|  | G | Wilson N. Jones Medical Center.
|  | G | Wilson N. Jones Medical Center.
11-MAR-10 | 20100427 | G | ITT Corporation.
|  | G | Nova Holdings, LLC.
|  | G | Nova Analytics Corporation.
12-MAR-10 | 20100413 | G | Detroit Edison Credit Union.
|  | G | NuUnion Credit Union.
|  | G | NuUnion Credit Union.
| 20100451 | G | Mr. Carlo Gherardi.
|  | G | Equifax Inc.
|  | G | Equifax Enabling Technologies.
| 20100460 | G | Wolverine Power Supply Cooperative, Inc.
|  | G | FirstEnergy Corp.
|  | G | FirstEnergy Generation Corp.
| 20100466 | G | Harbour Group Investments V, L.P.
|  | G | Atlantic Street Capital I, L.L.C.
|  | G | Fleetgistics Holdings, Inc.
15-MAR-10 | 20100455 | G | Fairfax Financial Holdings Limited.
|  | G | Zenith National Insurance Corp.
|  | G | Zenith National Insurance Corp.
16-MAR-10 | 20100464 | G | KKR European Fund III, Limited Partnership.
|  | G | Dr. Hans Peter Wild.
|  | G | WILD Flavors (Schweiz) SG.
|  | G | WILD Flavors (Canada), Inc.
|  | G | SweetUP AG.
|  | G | WILD Flavors Middle East FZE.
|  | G | WILD Procurement GmbH.
|  | G | WILD Flavors (Austria) GmbH.
|  | G | WILD Affiliated Holdings, Inc.
|  | G | Rudolf Wild Verwaltungs GmbH.
|  | G | Rudolf Wild GmbH & Co KG.
|  | G | WILD Juice B.V.
18-MAR-10 | 20100465 | G | Total System Services, Inc.
|  | G | First National of Nebraska, Inc.
|  | G | FNMS Holding, LLC.
19-MAR-10 | 20100468 | G | Religare Enterprises Limited.
|  | G | Northgate Capital LP.
|  | G | Northgate Capital LP.
| 20100475 | G | HSBC Holdings plc.
|  | G | Better Place, Inc.
|  | G | Better Place, Inc.
| 20100480 | G | James C. Davis.
|  | G | Erickson Group, LLC.
|  | G | Erickson Retirement Communities, LLC.
| 20100481 | G | Mr. Shahid Khan.
|  | G | Georgia Frontiere Revocable Trust u/d/t 2/18/03.
|  | G | The St. Louis Rams Partnership.
| 20100482 | G | Thomas H. Lee Equity Fund VI, L.P.
|  | G | CKE Restaurants, Inc.
|  | G | CKE Restaurants, Inc.
22-MAR-10 | 20100429 | G | Kieppe Patrimonial Ltda.
|  | G | Sunoco, Inc.
|  | G | Sunoco Chemicals, Inc.
| 20100469 | G | Golden Gate Capital Opportunity Fund, L.P.
|  | G | Clover Holdings Inc.
|  | G | Clover Holdings Inc.
| 20100473 | G | Helen of Troy Limited.
|  | G | Jahm Najafi.
|  | G | Innovative Brands, LLC.
| 20100485 | G | Francois Pinault.
|  | G | Fortune Brands, Inc.
|  | G | Cobra Golf Incorporated.
| 20100487 | G | Hearthside Holdco, LLC.
|  | G | Golden Temple Management, LLC.
|  | G | Golden Temple of Oregon, LLC.
| 20100489 | G | Littlejohn Fund III, L.P.
|  | G | CTI Foods Holding Co., LLC.
|  | G | CTI Foods Holding Co. LLC.
| 20100495 | G | Alinda Infrastructure Parallel Fund I, L.P.
|  | G | GSS Contract Services III Inc.
|  | G | NorTex Gas Storage Company, LLC.
23-MAR-10 | 20100359 | G | Koch Industries, Inc.
|  | G | Grant Forest Products Inc.
|  | G | Grant US. Holdings GP.
| 20100453 | G | Holly Energy Partners, LP.
|  | G | Holly Corporation.
|  | G | Navajo Refining Company, L.L.C.
|  | G | Holly Refining & Marketing—Tulsa LLC.
| 20100461 | G | Nucor Corporation.
|  | G | NuMit LLC.
|  | G | NuMit LLC.
| 20100484 | G | Bristol-Myers Squibb Company.
|  | G | Allergan, Inc.
|  | G | Allergan, Inc.
|  | G | Allergan Sales, LLC.
24-MAR-10 | 20100150 | G | Service Corporation International.
|  | G | Keystone North America Inc.
|  | G | Keystone North America Inc.
| 20100366 | G | Nestle S.A.
|  | G | Sirion Holdings, Inc.
|  | G | Sirion Therapeutics, Inc.
| 20100433 | G | Canam Group, Inc.
|  | G | Fabsouth LLC.
|  | G | Fabsouth LLC.
26-MAR-10 | 20100462 | G | Diamond Foods, Inc.
|  | G | Lion Capital Fund I, L.P.
|  | G | Lion/Stove Luxembourg Investment 2 S.a.r.l.
| 20100486 | G | JPMorgan Chase & Co.
|  | G | Sempra Energy.
|  | G | RBS Sempra Commodities Holdings IV B.V.
|  | G | RBS Sempra Oil Trading (Ireland) Limited.
|  | G | RBS Sempra Metals Group Limited.
|  | G | RBS Sempra Metals Far East Limited.
|  | G | RBS Sempra Energy Trading Holdings Sari.
|  | G | RBS Sempra Energy Europe Espana, S.L.U.
|  | G | RBS Sempra Energy Europe d.o.o.
|  | G | RBS Sempra Commodities PTE Ltd.
|  | G | Sempra Energy Trading LLC.
|  | G | RBS Sempra Plastics LLC.
|  | G | Trading & Transportation Management LLC.
|  | G | RBS Sempra Metals Services LLC.
|  | G | RBS Sempra Metals & Concentrates LLC.
|  | G | RBS Sempra Energy Europe Kereskedelmi Korlatolt Fele. Tarsa.
| 20100490 | G | Court Square Capital Partners II. L.P.
|  | G | H.I.G. Capital Partners Ill, L.P.
|  | G | Generic Drug Holdings, Inc.
| 20100492 | G | CONSOL Energy Inc.
|  | G | Dominion Resources, Inc.
|  | G | Dominion Exploration & Production, Inc.
|  | G | Dominion Reserves, Inc.
| 20100494 | G | Russell Sigler, Inc.
|  | G | United Technologies Corporation.
|  | G | Edward B. Ward & Company.
|  | G | Carrier Corporation.
| 20100498 | G | Max Capital Group Ltd.
|  | G | Harbor Point Limited.
|  | G | Harbor Point Limited.
| 20100504 | G | Wilibros Group, Inc.
|  | G | Tenaska Power Fund, L.P.
|  | G | InfrastruX Group, Inc.
| 20100505 | G | Tenaska Power Fund, LP.
|  | G | Willbros Group, Inc.
|  | G | Willbros Group, Inc.
29-MAR-10 | 20100070 | G | Cisco Systems, Inc.
|  | G | Tandberg ASA.
|  | G | Tandberg ASA.
| 20100445 | G | Mistral Equity Partners, LP.
|  | G | Snakcorp Holdings Inc.
|  | G | Snack Alliance, Inc.
| 20100458 | G | Walgreens Co.
|  | G | Duane Reade Shareholders, LLC.
|  | G | Duane Reade Holdings, Inc.
| 20100513 | G | Marc Ethan Berman.
|  | G | RiskMetrics Group, Inc.
|  | G | RiskMetrics Group, Inc.
31-MAR-10 | 20100472 | G | Liberty Media Corporation.
|  | G | Sirius XM Radio Inc.
|  | G | Sirius XM Radio Inc.
| 20100483 | G | KKR European Fund II, Limited Partnership.
|  | G | Convergys Corporation.
|  | G | Convergys CMG Utah, Inc.
|  | G | Convergys Customer Management Group Inc.
|  | G | Comvergys Learning Solutions Inc.
| 20100507 | G | Alan Trefler.
|  | G | Chordiant Software, Inc.
|  | G | Chordiant Software, Inc.
| 20100515 | G | Liberty Dialysis Holdings, Inc.
|  | G | Liberty Dialysis, Inc.
|  | G | Liberty Dialysis, Inc.

FOR FURTHER INFORMATION CONTACT: Sandra M. Peay, Contact Representative or Renee I-Tallman, Contact Representative:

Federal Trade Commission, Premerger Notification Office, Bureau of Competition, Room H-303, Washington, DC 20580, (202) 326-3100.

By Direction of the Commission.
Donald S. Clark,
Secretary.

[FR Doc. 2010-10438 Filed 5-5-10; 8:45 am]

BILLING CODE 6750-01-M